DEPARTMENT OF ENERGY

Federal Energy Regulatory Commission

[Docket No. RP96-383-065]

Dominion Transmission, Inc.; Notice of Filing

May 25, 2005.

Take notice that on May 20, 2005, Dominion Transmission, Inc. (DTI) tendered for filing as part of its FERC Gas Tariff, Third Revised Volume No. 1, the following tariff sheets, to become effective June 20, 2005:

Thirteenth Revised Sheet No. 1300,

Seventh Revised Sheet No. 1400,

Third Revised Sheet No. 1416.

DTI states that the purpose of this filing is to revise DTI's Tariff to remove references to negotiated rate transactions with Sithe Energy Marketing, LP (Sithe) for which the underlying contracts have terminated. DTI also proposes to amend Sheet No. 1300 to eliminate the reference to a non-conforming service agreement with Sithe that has terminated.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Linda Mitry,
Deputy Secretary.

[FR Doc. E5-2789 Filed 6-1-05; 8:45 am]

BILLING CODE 6717-01-P